DEPARTMENT OF ENERGY

Senior Executive Service; Performance Review Board

AGENCY: U.S. Department of Energy.

ACTION: Designation of Performance Review Board Chair.

SUMMARY: This notice provides the Performance Review Board Chair designee for the Department of Energy.

DATES: This appointment is effective as of September 30, 2006.

Margot H. Anderson

Issued in Washington, DC, November 1, 2006.
Claudia A. Cross,
Deputy Chief Human Capital Officer/Director, Office of Human Capital Management.

[FR Doc. E6-18832 Filed 11-7-06; 8:45 am]

BILLING CODE 6450-01-P